DEPARTMENT OF ENERGY

Federal Energy Regulatory Commission

Combined Notice of Filings #1

Take notice that the Commission received the following electric rate filings:

Docket Numbers: ER13-2274-000.

Applicants: Southwest Power Pool, Inc.

Description: 2439R1 Kansas Municipal Energy Agency NITSA and NOA to be effective 8/1/2013.

Filed Date: 8/28/13.

Accession Number: 20130828-5150.

Comments Due: 5 p.m. ET 9/18/13.

Docket Numbers: ER13-2275-000.

Applicants: Southwest Power Pool, Inc.

Description: 2491R1 Westar Energy, Inc. NITSA and NOA to be effective 8/1/2013.

Filed Date: 8/28/13.

Accession Number: 20130828-5159.

Comments Due: 5 p.m. ET 9/18/13.

Docket Numbers: ER13-2276-000.

Applicants: Southwest Power Pool, Inc.

Description: 2415R1 Kansas Municipal Energy Agency NITSA and NOA to be effective 8/1/2013.

Filed Date: 8/28/13.

Accession Number: 20130828-5181.

Comments Due: 5 p.m. ET 9/18/13.

Docket Numbers: ER13-2278-000.

Applicants: Southern California Edison Company.

Description: Southern California Edison Company Cancels Four Rate Schedules Related to the Four Corners Project (RS Nos. 47, 48, 282, and 461).

Filed Date: 8/28/13.

Accession Number: 20130828-5194.

Comments Due: 5 p.m. ET 9/18/13.

Docket Numbers: ER13-2279-000.

Applicants: Snowflake Power, LLC.

Description: Snowflake Power, LLC submits notice of cancellation of its market based rate.

Filed Date: 8/12/13.

Accession Number: 20130812-0026.

Comments Due: 5 p.m. ET 9/9/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 29, 2013.
Nathaniel J. Davis, Sr.,
Deputy Secretary.

[FR Doc. 2013-21728 Filed 9-5-13; 8:45 am]

BILLING CODE 6717-01-P